DEPARTMENT OF TRANSPORTATION

Federal Aviation Administration

14 CFR Part 39

[Docket No. FAA-2015-8468; Directorate Identifier 2014-NM-208-AD; Amendment 39-18605; AD 2016-16-07]

RIN 2120-AA64

Airworthiness Directives; Airbus Airplanes

AGENCY: Federal Aviation Administration (FAA), Department of Transportation (DOT).

ACTION: Final rule.

SUMMARY: We are superseding Airworthiness Directive (AD) 2007-21-14 R1 for all Airbus Model A310 series airplanes. AD 2007-21-14 R1 required revising the Airworthiness Limitations Section of the Instructions for Continued Airworthiness to incorporate new limitations for fuel tank systems. This new AD requires revising the maintenance program or inspection program to incorporate revised fuel maintenance and inspection tasks. This AD was prompted by the issuance of more restrictive maintenance requirements and/or airworthiness limitations by the manufacturer. We are issuing this AD to prevent the potential of ignition sources inside fuel tanks, which, in combination with flammable fuel vapors caused by latent failures, alterations, repairs, or maintenance actions, could result in fuel tank explosions and consequent loss of the airplane.

DATES: This AD becomes effective September 14, 2016.

The Director of the Federal Register approved the incorporation by reference of a certain publication listed in this AD as of September 14, 2016.

The Director of the Federal Register approved the incorporation by reference of a certain other publication listed in this AD as of November 20, 2007 (72 FR 58499, October 16, 2007).

ADDRESSES: For service information identified in this final rule, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket Number FAA-2015-8468.

Examining the AD Docket

You may examine the AD docket on the Internet at http://www.regulations.gov by searching for and locating Docket Number FAA-2015-8468; or in person at the Docket Management Facility between 9 a.m. and 5 p.m., Monday through Friday, except Federal holidays. The AD docket contains this AD, the regulatory evaluation, any comments received, and other information. The street address for the Docket Operations office (telephone 800-647-5527) is in the ADDRESSES section.

FOR FURTHER INFORMATION CONTACT: Dan Rodina, Aerospace Engineer, International Branch, ANM-116, Transport Airplane Directorate, FAA, 1601 Lind Avenue SW., Renton, WA 98057-3356; telephone 425-227-2125; fax 425-227-1149.

SUPPLEMENTARY INFORMATION:

Discussion

We issued a notice of proposed rulemaking (NPRM) to amend 14 CFR part 39 to supersede AD 2007-21-14 R1, Amendment 39-16061 (74 FR 55123, October 27, 2009) (“AD 2007-21-14 R1”). AD 2007-21-14 R1 applied to all Airbus Model A310 series airplanes. The NPRM published in the Federal Register on January 20, 2016 (81 FR 3066) (“the NPRM”). The NPRM was prompted by the issuance of more restrictive maintenance requirements and/or airworthiness limitations by the manufacturer. The NPRM proposed to retain the requirements of AD 2007-21-14 R1, and require more restrictive maintenance requirements and/or airworthiness limitations. We are issuing this AD to prevent the potential of ignition sources inside fuel tanks, which, in combination with flammable fuel vapors caused by latent failures, alterations, repairs, or maintenance actions, could result in fuel tank explosions and consequent loss of the airplane.

The European Aviation Safety Agency (EASA), which is the Technical Agent for the Member States of the European Union, has issued EASA Airworthiness Directive 2014-0193, dated October 15, 2014 (referred to after this as the Mandatory Continuing Airworthiness Information, or “the MCAI”), to correct an unsafe condition on all Airbus Model A310 series airplanes. The MCAI states:

Prompted by an accident * * *, the Federal Aviation Administration (FAA) published Special Federal Aviation Regulation (SFAR) 88, and the Joint Aviation Authorities (JAA) published Interim Policy INT/POL/25/12. In response to these regulations, Airbus conducted a design review to develop Fuel Airworthiness Limitations (FAL) for Airbus on A310 aeroplanes.

The FAL were specified in Airbus A310 FAL document ref. 95A.1930/05 at issue 02 and in the A310 Airworthiness Limitations Section (ALS) variation to FAL document issue 02, ref. 0BVLG110006/C0S issue 01, for A310 aeroplanes.

EASA issued [EASA] AD 2006-0202 to require compliance with the FAL documents (comprising maintenance/inspection tasks and Critical Design Configuration Control Limitations (CDCCL)).

EASA AD 2006-0202 was superseded by EASA AD 2007-0096 (later revised) [which corresponds to FAA AD 2007-21-14 R1], which retained the original requirements and corrected and updated the compliance paragraphs concerning task ref. 28-18-00-03-1 and CDCCL's.

Since EASA AD 2007-0096R1 [which corresponds to FAA AD 2007-21-14 R1] was published, Airbus issued A310 ALS Part 5, prompted by EASA policy statement (EASA D2005/CPRO) which requests design approval holders to integrate Fuel Tank Safety items into an ALS document. The A310 ALS Part 5 is approved by EASA.

Failure to comply with the items as identified in Airbus A310 ALS Part 5 could result in a fuel tank explosion and consequent loss of the aeroplane.

For the reasons described above, this [EASA] AD * * * requires implementation of the new and more restrictive maintenance instructions and/or airworthiness limitations as specified in Airbus A310 ALS Part 5.

The unsafe condition is the potential of ignition sources inside fuel tanks, which, in combination with flammable fuel vapors caused by latent failures, alterations, repairs, or maintenance actions, could result in fuel tank explosions and consequent loss of the airplane. You may examine the MCAI in the AD docket on the Internet at http://www.regulations.gov by searching for and locating Docket No. FAA-2015-8468.

Comments

We gave the public the opportunity to participate in developing this AD. The following presents the comment received on the NPRM. The Air Line Pilots Association International supported the intent of the NPRM.

Conclusion

We reviewed the relevant data, considered the comment received, and determined that air safety and the public interest require adopting this AD as proposed, with minor editorial changes. We have determined that these minor changes:

• Are consistent with the intent that was proposed in the NPRM for correcting the unsafe condition; and

• Do not add any additional burden upon the public than was already proposed in the NPRM.

Related Service Information Under 1 CFR Part 51

Airbus has issued A310 Airworthiness Limitations Section (ALS) Part 5—Fuel Airworthiness Limitations, Revision 00, dated May 27, 2014. The airworthiness limitations introduce mandatory instructions and more restrictive maintenance requirements. This service information is reasonably available because the interested parties have access to it through their normal course of business or by the means identified in the ADDRESSES section.

Costs of Compliance

We estimate that this AD affects 23 airplanes of U.S. registry.

The actions required by AD 2007-21-14 R1 and retained in this AD take about 2 work-hours per product, at an average labor rate of $85 per work-hour. Required parts cost $0 per product. Based on these figures, the estimated cost of the actions that were required by AD 2007-21-14 R1 is $170 per product.

We also estimate that it takes about 1 work-hour per product to comply with the basic requirements of this AD. The average labor rate is $85 per work-hour. Required parts will cost about $0 per product. Based on these figures, we estimate the cost of this AD on U.S. operators to be $1,955, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2007-21-14 R1, Amendment 39-16061 (74 FR 55123, October 27, 2009), and adding the following new AD:

2016-16-07 Airbus: Amendment 39-18605; Docket No. FAA-2015-8468; Directorate Identifier 2014-NM-208-AD.

(a) Effective Date

This AD becomes effective September 14, 2016.

(b) Affected ADs

This AD replaces AD 2007-21-14 R1, Amendment 39-16061 (74 FR 55123, October 27, 2009) (“AD 2007-21-14 R1”).

(c) Applicability

This AD applies to Airbus Model A310-203, -204, -221, -222, -304, -322, -324, and -325 airplanes, certificated in any category, all manufacturer serial numbers.

(d) Subject

Air Transport Association (ATA) of America Code 05, Time Limits/Maintenance Checks.

(e) Reason

This AD was prompted by the issuance of more restrictive maintenance requirements and/or airworthiness limitations by the manufacturer. We are issuing this AD to prevent the potential of ignition sources inside fuel tanks, which, in combination with flammable fuel vapors caused by latent failures, alterations, repairs, or maintenance actions, could result in fuel tank explosions and consequent loss of the airplane.

(f) Compliance

Comply with this AD within the compliance times specified, unless already done.

(g) Retained Revision of the Airworthiness Limitations Section (ALS) To Incorporate Fuel Maintenance and Inspection Tasks, With No Changes

This paragraph restates the requirements of paragraph (f) of AD 2007-21-14 R1, with no changes. Within 3 months after November 20, 2007 (the effective date of AD 2007-21-14, Amendment 39-15232, (72 FR 58499, October 16, 2007) (“AD 2007-21-14”)), revise the ALS of the Instructions for Continued Airworthiness to incorporate Airbus A310 ALS Part 5—Fuel Airworthiness Limitations, dated May 31, 2006, as defined in Airbus A310 Fuel Airworthiness Limitations, Document 95A.1930/05, Issue 2, dated May 11, 2007 (approved by the European Aviation Safety Agency (EASA) on July 6, 2007), Section 1, “Maintenance/Inspection Tasks.” For all tasks identified in Section 1 of Document 95A.1930/05, Issue 2, dated May 11, 2007, the initial compliance times start from the later of the times specified in paragraphs (g)(1) and (g)(2) of this AD, and the repetitive inspections must be accomplished thereafter at the intervals specified in Section 1 of Document 95A.1930/05, except as provided by paragraph (h) of this AD.

(1) November 20, 2007 (the effective date of AD 2007-21-14).

(2) The date of issuance of the original French standard airworthiness certificate or the date of issuance of the original French export certificate of airworthiness.

Note 1 to paragraph (g) of this AD: Airbus Operator Information Telex SE 999.0079/07, Revision 01, dated August 14, 2007, identifies the applicable sections of the Airbus A310 Airplane Maintenance Manual necessary for accomplishing the tasks specified in Section 1 of Document 95A.1930/05.

(h) Retained Revision of Initial Compliance Time for Task 28-18-00-03-1, With No Changes

This paragraph restates the requirements of paragraph (g) of AD 2007-21-14 R1, with no changes. For Task 28-18-00-03-1 identified in Section 1 of Document 95A.1930/05, “Maintenance/Inspection Tasks,” of Airbus A310 Fuel Airworthiness Limitations, Document 95A.1930/05, Issue 2, dated May 11, 2007 (approved by the EASA on July 6, 2007): The initial compliance time is the later of the times specified in paragraphs (h)(1) and (h)(2) of this AD. Thereafter, Task 28-18-00-03-1 identified in Section 1 of Document 95A.1930/05, “Maintenance/Inspection Tasks,” of Airbus A310 Fuel Airworthiness Limitations, Document 95A.1930/05, Issue 2, dated May 11, 2007 (approved by the EASA on July 6, 2007), must be accomplished at the repetitive interval specified in Section 1 of Airbus A310 Fuel Airworthiness Limitations, Document 95A.1930/05, Issue 2, dated May 11, 2007 (approved by the EASA on July 6, 2007).

(1) Prior to the accumulation of 40,000 total flight hours.

(2) Within 72 months or 20,000 flight hours after November 20, 2007 (the effective date of AD 2007-21-14), whichever occurs first.

(i) Retained Revision of the ALS To Incorporate Critical Design Configuration Control Limitations (CDCCLs), With No Changes

This paragraph restates the requirements of paragraph (h) of AD 2007-21-14 R1, with no changes. Within 12 months after November 20, 2007 (the effective date of AD 2007-21-14), revise the ALS of the Instructions for Continued Airworthiness to incorporate Airbus A310 ALS Part 5—Fuel Airworthiness Limitations, dated May 31, 2006, as defined in Airbus A310 Fuel Airworthiness Limitations, Document 95A.1930/05, Issue 2, dated May 11, 2007 (approved by the EASA on July 6, 2007), Section 2, “Critical Design Configuration Control Limitations.”

(j) Retained No Alternative Inspections, Inspection Intervals, or CDCCLs, With New Paragraph Reference

This paragraph restates the requirements of paragraph (i) of AD 2007-21-14 R1, with a new paragraph reference. Except as provided by paragraphs (k) and (m)(1) of this AD: After accomplishing the actions specified in paragraphs (g) and (i) of this AD, no alternative inspections, inspection intervals, or CDCCLs may be used.

(k) New Requirement of This AD: Revise the Maintenance or Inspection Program

Within 3 months after the effective date of this AD, revise the maintenance or inspection program, as applicable, by incorporating the airworthiness limitations as specified in Airbus A310 Airworthiness Limitations Section (ALS) Part 5—Fuel Airworthiness Limitations, Revision 00, dated May 27, 2014. The initial compliance times for the actions specified Airbus A310 ALS Part 5—Fuel Airworthiness Limitations, Revision 00, dated May 27, 2014, are at the later of the times specified in Airbus A310 ALS Part 5—Fuel Airworthiness Limitations, Revision 00, dated May 27, 2014, or within 3 months after the effective date of this AD, whichever occurs later. Accomplishing the revision required by this paragraph terminates the actions required by paragraphs (g) through (i) of this AD.

(l) New Requirement of This AD: No Alternative Inspections, Intervals, and/or CDCCLs

After the maintenance or inspection program has been revised as required by paragraph (k) of this AD, no alternative actions (e.g., inspections), intervals, and/or CDCCLs may be used unless the actions, intervals, and/or CDCCLs are approved as an alternative method of compliance (AMOC) in accordance with the procedures specified in paragraph (m)(1) of this AD.

(m) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone 425-227-2125; fax 425-227-1149. Information may be emailed to: 9-ANM-116-AMOC-REQUESTS@faa.gov. Before using any approved AMOC, notify your appropriate principal inspector, or lacking a principal inspector, the manager of the local flight standards district office/certificate holding district office.

(2) Contacting the Manufacturer: As of the effective date of this AD, for any requirement in this AD to obtain corrective actions from a manufacturer, the action must be accomplished using a method approved by the Manager, International Branch, ANM-116, Transport Airplane Directorate, FAA; or EASA) or Airbus's EASA Design Organization Approval (DOA). If approved by the DOA, the approval must include the DOA-authorized signature.

(n) Related Information

Refer to Mandatory Continuing Airworthiness Information (MCAI) EASA Airworthiness Directive 2014-0193, dated October 15, 2014, for related information. This MCAI may be found in the AD docket on the Internet at http://www.regulations.gov by searching for and locating Docket No. FAA-2015-8468.

(o) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on September 14, 2016.

(i) Airbus A310 Airworthiness Limitations Section (ALS) Part 5—Fuel Airworthiness Limitations, Revision 00, dated May 27, 2014.

(ii) Reserved.

(4) The following service information was approved for IBR on November 20, 2007 (72 FR 58499, October 16, 2007).

(i) Airbus A310 ALS Part 5—Fuel Airworthiness Limitations, dated May 31, 2006.

(ii) Airbus A310 Fuel Airworthiness Limitations, Document 95A.1930/05, Part 5—Fuel Airworthiness Limitations, Issue 2, dated May 11, 2007.

(5) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com.

(6) You may view this service information at the FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on July 25, 2016.
Victor Wicklund,
Acting Manager, Transport Airplane Directorate, Aircraft Certification Service.

[FR Doc. 2016-18483 Filed 8-9-16; 8:45 am]

BILLING CODE 4910-13-P